DEPARTMENT OF COMMERCE

International Trade Administration

(A-489-807)

Certain Steel Concrete Reinforcing Bars from Turkey: Notice of Extension of Time Limits for Final Results of Antidumping Duty Administrative Review

AGENCY: Import Administration, International Trade Administration, Department of Commerce.

SUMMARY: The Department of Commerce is extending the time limits of the final results of the antidumping duty administrative review on certain steel concrete reinforcing bars from Turkey. The review covers four producers/exporters of the subject merchandise to the United States. The period of review is April 1, 1999, through March 31, 2000.

EFFECTIVE DATE: August 21, 2001.

FOR FURTHER INFORMATION CONTACT: Irina Itkin at (202) 482-0656, Office of AD/CVD Enforcement, Import Administration, International Trade Administration, U.S. Department of Commerce, 14th Street and Constitution Avenue, N.W., Washington, DC 20230.

Postponement of Final Results of Administrative Review

The Department issued the preliminary results of the 1999-2000 administrative review of the antidumping duty order on certain steel concrete reinforcing bars from Turkey on May 4, 2001 (66 FR 22525 (May 4, 2001)). The current deadline for the final results in this review is September 4, 2001. In accordance with section 751(a)(3)(A) of the Tariff Act of 1930, as amended (the Act), and 19 CFR 351.213(h)(2), the Department finds that the final results cannot be issued within the original time frame due to the large number of sales and cost issues raised by the parties in their case briefs.

Because it is not practicable to complete this administrative review within the time limits mandated by section 751(a)(3)(A) of the Act, as amended by the Uruguay Round Agreements Act, and 19 CFR 351.213(h)(2), the Department is extending the time limits for completion of the final results of the administrative review until October 31, 2001.

Dated: August 15, 2001.
Susan Kuhbach,
Acting Deputy Assistant Secretary for Import Administration.

[FR Doc. 01-21078 Filed 8-20-01; 8:45 am]

BILLING CODE 3510-DS-P